SMALL BUSINESS ADMINISTRATION

Salem Halifax Capital Partners, L.P.

[License No. 04/04-0300]

Notice Seeking Exemption Under the Small Business Investment Act, Conflicts of Interest

Notice is hereby given that Salem Halifax Capital Partners, L.P., 2849 Paces Ferry Road, Overlook I, Suite 660, Atlanta, GA 30339, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Salem Halifax Capital Partners, L.P. is seeking post-financing approval from SBA for a debt and equity financing it made to XL Associates, Inc., 1650 Tysons Boulevard, Suite 720, McLean, VA 22102 (“XL”).

The financing is brought within the purview of § 107.730(a)(1) and § 107.730(d)(1) of the Regulations because Salem Halifax Capital Partners, L.P. invested in XL, which is considered an Associate of Salem Halifax Capital Partners, L.P., through Halifax Capital Partners', an Associate of Salem Halifax Capital Partners, L.P., ownership of more than 10% of XL's equity. Therefore this transaction is considered a financing constituting a conflict of interest requiring prior SBA approval. Salem Halifax Capital Partners, L.P. has already made its investment in XL and is seeking post-financing SBA approval.

Notice is hereby given that any interested person may submit written comments on the transaction, within fifteen days of the date of this publication, to the Associate Administrator for Investment, U.S. Small Business Administration, 409 Third Street SW., Washington, DC 20416.

Harry Haskins,
Acting Associate Administrator for Investment.

[FR Doc. 2013-15653 Filed 7-1-13; 8:45 am]

BILLING CODE 8025-01-P